DEPARTMENT OF LABOR

Mine Safety and Health Administration

Proposed Information Collection Request Submitted for Public Comment and Recommendations; Hazardous Conditions Complaints

AGENCY: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed.

A copy of the proposed information collection request can be obtained by contacting the employee listed below in the Addressee section of this notice.

DATES: Submit comments on or before June 25, 2001.

ADDRESSES: Send comments to Brenda C. Teaster, Acting Chief, Records Management Division, 4015 Wilson Boulevard, Room 709A, 4015, Arlington, VA 22203-1984. Commenters are encouraged to send their comments on a computer disk, or via Internet E-mail to bteaster@msha.gov, along with an original printed copy. Ms. Teaster can be reached at (703) 235-1470 (voice), or (703) 235-1563 (facsimile).

FOR FURTHER INFORMATION CONTACT: Brenda C. Teaster, Acting Chief, Records Management Division, U.S. Department of Labor, Mine Safety and Health Administration, Room 709A, 4015 Wilson Boulevard, Arlington, VA 22203-1984. Ms. Teaster can be reached at Bteaster@msha.gov (Internet E-mail), (703) 235-1470 (voice), or (703) 235-1563 (facsimile).

SUPPLEMENTARY INFORMATION:

I. Background

Under section 103(g) of the Mine Safety and Health Act of 1977 (Pub. L. 91-173, as amended by Pub. L. 95-164) (the Act)), a representative of miners, or any individual miner acting voluntarily as a repesentative of miners, may submit a written notification of alleged violation of the Act or a mandatory standard or of an imminent danger. Such notification requies MSHA to make an immediate inspection. A copy of the notice must be provided to the operator.

Title 30, CFR, part 43, implements section 103(g) of the Act. It provides the procedures for submitting notification of the alleged violation and the actions which MSHA must take after receiving the notice. Although the regulation contains a review procedure (required by section 103(g)(2) of the Act) whereby a miner or a representative of miners may in writing request a review if no citation or order is written as a result of the original notice, the option is so rarely used that it was not considered in the burden estimates.

II. Desired Focus of Comments

Currently, the Mine Safety and Health Administration (MSHA) is soliciting comments concerning the proposed extension of the information collection related to the Hazardous Conditions Complaints addressed by 30 CFR 43.4 and 43.7. MSHA is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request may be viewed on the Internet by accessing the MSHA Home Page (http://www.msha.gov) and selecting “Statutory and Regulatory Information” then “Paperwork Reduction Act Submissions (http://www.msha.gov/regspwork.htm)”, or by contacting the employee listed above in the For Further Information Contact section of this notice for a hard copy.

III. Current Actions

MSHA is required to conduct inspections of hazardous conditions whenever and however complaints are made by miners or miners' representatives to the Agency. This is a mandatory Agency response dictated by the provisions of section 103(g) of the Act and implemented through the provisions of part 43 CFR Title 30. MSHA has minimized the paper work burden by providing alternative toll free telephone extensions and internet e-mail procedures so that hazardous complaints may be made verbally and anonymously. These complaints are reduced to written form by MSHA for presentation to the operator or independent contractor. MSHA's effectiveness in enforcing the safety and health standards and ability to provide timely response to hazardous conditions requires immediate and confidential investigation of safety complaints. Such response is essential to retaining the confidence of the miners and to encouraging compliance with the health and safety standards between inspection events.

Type of Review: Extension.

Agency: Mine Safety and Health Administration.

Title: Hazardous Conditions Complaints.

OMB Number: 1219-0014.

Record keeping: None.

Affected Public: Businesses or other for profit.

Cite/Reference/Form/etc.: 30 CFR 43.4 and 43.7.

Total Respondents: 651.

Frequency: On occasion.

Total Responses: 651.

Average Time per Response: 12 minutes.

Estimated Total Burden Hours: 130 hours.

Estimated Total Burden Cost: $0.

Comments submitted in response to this notice will be summarized and/or included in the request for Office of Management and Budget approval of the information collection request; they will also become a matter of public record.

Dated: April 19, 2001.
Brenda C. Teaster,
Acting Chief, Records Management Division.

[FR Doc. 01-10417 Filed 4-25-01; 8:45 am]

BILLING CODE 4510-43-M